DEPARTMENT OF ENERGY

Federal Energy Regulatory Commission

[Docket No. CP17-488-000; CP17-489-000]

Kinetica Deepwater Express, LLC; Kinetica Energy Express, LLC; Notice of Technical Conference

Take notice that a technical conference will be held on Thursday, July 12, 2018 at 10:00 a.m. (Eastern Standard Time), in a room to be designated at the offices of the Federal Energy Regulatory Commission, 888 First Street NE, Washington, DC 20426.

At the technical conference, the Commission staff and the parties to the proceeding should be prepared to discuss all issues and comments filed in the proceeding.

Federal Energy Regulatory Commission conferences are accessible under section 508 of the Rehabilitation Act of 1973. For accessibility accommodations please send an email to accessibility@ferc.gov or call toll free (866) 208-3372 (voice) or (202) 502-8659 (TTY), or send a fax to (202) 208-2106 with the required accommodations.

All interested persons and staff are permitted to attend. For further information please contact Shannon ONeil at (202) 502-6046 or email Shannon.ONeil@ferc.gov.

Dated: July 5, 2018.
Kimberly D. Bose,
Secretary.

[FR Doc. 2018-14813 Filed 7-10-18; 8:45 am]

BILLING CODE 6717-01-P